DEPARTMENT OF ENERGY

Federal Energy Regulatory Commission

Combined Notice of Filings #1

Take notice that the Commission received the following electric rate filings:

Docket Numbers: ER10-2960-012; ER10-1595-015; ER10-1598-015; ER10-1616-015; ER10-1618-015; ER18-1821-007; ER18-2418 004; ER19-2231-004; ER19-2232-004.

Applicants: Astoria Generating Company, L.P., Chief Conemaugh Power, LLC, Chief Conemaugh Power II, LLC, Chief Keystone Power, LLC, Chief Keystone Power II, LLC, Crete Energy Venture, LLC, Great River Hydro, LLC, Lincoln Generating Facility, LLC, New Covert Generating Company, LLC, Walleye Power, LLC, Rolling Hills Generating, L.L.C.

Description: Amendment to June 30, 2020 and March 1, 2021 Triennial Market Power Analysis for the Northeast Region and Notice of Change in Status of Astoria Generating Company, L.P., et al.

Filed Date: 4/22/21.

Accession Number: 20210422-5251.

Comments Due: 5 p.m. ET 5/13/21,

Docket Numbers: ER20-1697-001.

Applicants: Midcontinent Independent System Operator, Inc., American Electric Power Service Corporation.

Description: Compliance filing: 2021-04-23_AEP Deficiency Response re Order 864 Compliance to be effective N/A.

Filed Date: 4/23/21.

Accession Number: 20210423-5093.

Comments Due: 5 p.m. ET 5/14/21.

Docket Numbers: ER20-1886-001.

Applicants: PJM Interconnection, L.L.C., Appalachian Power Company, Indiana Michigan Power Company, Kentucky Power Company, Kingsport Power Company, Ohio Power Company, Wheeling Power Company, American Electric Power Service Corporation.

Description: Compliance filing: AEP submits Response to Deficiency Letter in ER20-1886 and ER20-1888 to be effective N/A.

Filed Date: 4/23/21.

Accession Number: 20210423-5016.

Comments Due: 5 p.m. ET 5/14/21.

Docket Numbers: ER20-1888-001.

Applicants: PJM Interconnection, L.L.C., AEP Appalachian Transmission Company, Inc., AEP Indiana Michigan Transmission Company, AEP Kentucky Transmission Company, Inc., AEP Ohio Transmission Company, Inc., American Electric Power Service Corporation, AEP West Virginia Transmission Company.

Description: Compliance filing: AEP submits Response to Deficiency Letter in ER20-1886 and ER20-1888 to be effective N/A.

Filed Date: 4/23/21.

Accession Number: 20210423-5025.

Comments Due: 5 p.m. ET 5/14/21.

Docket Numbers: ER20-2574-001.

Applicants: Southwest Power Pool, Inc.

Description: Compliance filing: Deficiency Response in ER20-2574—AEP West Op Cos Order No. 864 Comp. Filing to be effective N/A.

Filed Date: 4/23/21.

Accession Number: 20210423-5062.

Comments Due: 5 p.m. ET 5/14/21

Docket Numbers: ER20-2577-001.

Applicants: Southwest Power Pool, Inc.

Description: Compliance filing: Deficiency Response in ER20-2577—AEP West Trans Cos Order No. 864 Comp. Filing to be effective N/A.

Filed Date: 4/23/21.

Accession Number: 20210423-5057.

Comments Due: 5 p.m. ET 5/14/21.

Docket Numbers: ER21-1726-000.

Applicants: Connecticut Municipal Electric Energy Cooperative, Massachusetts Municipal Wholesale Electric Company, Pascoag Utility District, Vermont Department of Public Service.

Description: Joint Petition for Advance Waiver, et al. of Connecticut Municipal Electric Energy Cooperative, et al.

Filed Date: 4/21/21.

Accession Number: 20210421-5206.

Comments Due: 5 p.m. ET 5/5/21.

Docket Numbers: ER21-1736-000.

Applicants: El Paso Electric Company.

Description: § 205(d) Rate Filing: Service Agreement No. 352, Simultaneous Exchange with TransAlta to be effective 6/11/2021.

Filed Date: 4/22/21.

Accession Number: 20210422-5195.

Comments Due: 5 p.m. ET 5/13/21.

Docket Numbers: ER21-1737-000.

Applicants: Indianapolis Power & Light Company.

Description: § 205(d) Rate Filing: IPL Reactive Power Supplemental Filing and Motions to be effective 6/9/2021.

Filed Date: 4/22/21.

Accession Number: 20210422-5201.

Comments Due: 5 p.m. ET 5/13/21.

Docket Numbers: ER21-1739-000.

Applicants: AEP Texas Inc.

Description: § 205(d) Rate Filing: AEPTX-Appaloosa Run Wind Interconnection Agreement to be effective 4/12/2021.

Filed Date: 4/23/21.

Accession Number: 20210423-5008.

Comments Due: 5 p.m. ET 5/14/21.

Docket Numbers: ER21-1740-000.

Applicants: The Connecticut Light and Power Company.

Description: Tariff Cancellation: Cancellation Preliminary Engineering and Design Agreement—Gravel Pit Solar LLC to be effective 4/23/2021.

Filed Date: 4/23/21.

Accession Number: 20210423-5022.

Comments Due: 5 p.m. ET 5/14/21.

Docket Numbers: ER21-1741-000.

Applicants: Southwest Power Pool, Inc.

Description: § 205(d) Rate Filing: 3095R3 Missouri River Energy Services NITSA and NOA to be effective 10/1/2020.

Filed Date: 4/23/21.

Accession Number: 20210423-5024.

Comments Due: 5 p.m. ET 5/14/21.

Docket Numbers: ER21-1742-000.

Applicants: Tampa Electric Company.

Description: Request for Waiver of Rate Schedule Provisions, et al. of Tampa Electric Company.

Filed Date: 4/22/21.

Accession Number: 20210422-5252.

Comments Due: 5 p.m. ET 5/3/21.

Docket Numbers: ER21-1743-000.

Applicants: Southwest Power Pool, Inc.

Description: § 205(d) Rate Filing: 2562R9 Kansas Municipal Energy Agency NITSA and NOA to be effective 4/1/2021.

Filed Date: 4/23/21.

Accession Number: 20210423-5067.

Comments Due: 5 p.m. ET 5/14/21.

Docket Numbers: ER21-1744-000.

Applicants: Brookfield Energy Marketing LP.

Description: § 205(d) Rate Filing: Notice of Non-Material Change in Status and Change in Category Seller Status to be effective 4/24/2021.

Filed Date: 4/23/21.

Accession Number: 20210423-5165.

Comments Due: 5 p.m. ET 5/14/21.

Docket Numbers: ER21-1745-000.

Applicants: Brookfield Energy Marketing Inc.

Description: § 205(d) Rate Filing: Notice of Non-Material Change in Status and Change in Category Seller Status to be effective 4/24/2021.

Filed Date: 4/23/21.

Accession Number: 20210423-5166.

Comments Due: 5 p.m. ET 5/14/21.

Docket Numbers: ER21-1746-000.

Applicants: Brookfield Renewable Energy Marketing US LLC.

Description: § 205(d) Rate Filing: Notice of Non-Material Change in Status and Change in Category Seller Status to be effective 4/24/2021.

Filed Date: 4/23/21.

Accession Number: 20210423-5167.

Comments Due: 5 p.m. ET 5/14/21.

Docket Numbers: ER21-1747-000.

Applicants: Brookfield Renewable Trading and Marketing LP.

Description: § 205(d) Rate Filing: Notice of Non-Material Change in Status and Change in Category Seller Status to be effective 4/24/2021.

Filed Date: 4/23/21.

Accession Number: 20210423-5169.

Comments Due: 5 p.m. ET 5/14/21.

Docket Numbers: ER21-1748-000.

Applicants: Horseshoe Bend Wind, LLC.

Description: § 205(d) Rate Filing: Notice of Non-Material Change in Status and Change in Category Seller Status to be effective 4/24/2021.

Filed Date: 4/23/21.

Accession Number: 20210423-5170.

Comments Due: 5 p.m. ET 5/14/21.

Docket Numbers: ER21-1749-000.

Applicants: North Hurlburt Wind, LLC.

Description: § 205(d) Rate Filing: Notice of Non-Material Change in Status and Change in Category Seller Status to be effective 4/24/2021.

Filed Date: 4/23/21.

Accession Number: 20210423-5172.

Comments Due: 5 p.m. ET 5/14/21.

Docket Numbers: ER21-1750-000.

Applicants: South Hurlburt Wind, LLC.

Description: § 205(d) Rate Filing: Notice of Non-Material Change in Status and Change in Category Seller Status to be effective 4/24/2021.

Filed Date: 4/23/21.

Accession Number: 20210423-5173.

Comments Due: 5 p.m. ET 5/14/21.

Docket Numbers: ER21-1751-000.

Applicants: Sirrius Energy LLC.

Description: Baseline eTariff Filing: Application For Market Based Rate Authority to be effective 5/1/2021.

Filed Date: 4/23/21.

Accession Number: 20210423-5178.

Comments Due: 5 p.m. ET 5/14/21.

Docket Numbers: ER21-1752-000.

Applicants: Public Service Company of New Mexico.

Description: § 205(d) Rate Filing: Unexecuted Revisions to Service Agreement No. 398 to be effective 4/23/2021.

Filed Date: 4/23/21.

Accession Number: 20210423-5179.

Comments Due: 5 p.m. ET 5/14/21.

Docket Numbers: ER21-1753-000.

Applicants: California Independent System Operator Corporation

Description: § 205(d) Rate Filing: 2021-04-23 Certificate of Concurrence—LGIA—Kramer to be effective 4/18/2021.

Filed Date: 4/23/21.

Accession Number: 20210423-5198.

Comments Due: 5 p.m. ET 5/14/21.

Docket Numbers: ER21-1754-000.

Applicants: New York Independent System Operator, Inc.

Description: § 205(d) Rate Filing: 205: NYISO-Ravenswood Fuel Oil Implementation Agreement, SA No. 2623 to be effective 5/1/2021.

Filed Date: 4/23/21.

Accession Number: 20210423-5202.

Comments Due: 5 p.m. ET 5/14/21.

Docket Numbers: ER21-1755-000.

Applicants: Hartree Partners, LP.

Description: § 205(d) Rate Filing: Market-Based Rate Notice of Change in Status, Seller Category, Confidentiality to be effective 4/23/2021.

Filed Date: 4/23/21.

Accession Number: 20210423-5217.

Comments Due: 5 p.m. ET 5/14/21.

Take notice that the Commission received the following electric securities filings:

Docket Numbers: ES21-38-000.

Applicants: International Transmission Company.

Description: Application under Section 204 of the Federal Power Act for Authorization to Issue Securities for International Transmission Company.

Filed Date: 4/23/21.

Accession Number: 20210423-5042.

Comments Due: 5 p.m. ET 5/14/21.

Docket Numbers: ES21-39-000.

Applicants: Michigan Electric Transmission Company, LLC.

Description: Application under Section 204 of the Federal Power Act for Authorization to Issue Securities for Michigan Electric Transmission Company, LLC.

Filed Date: 4/23/21.

Accession Number: 20210423-5049.

Comments Due: 5 p.m. ET 5/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2021.
Kimberly D. Bose,
Secretary.

[FR Doc. 2021-09056 Filed 4-29-21; 8:45 am]

BILLING CODE 6717-01-P